DEPARTMENT OF COMMERCE

International Trade Administration

[A-560-838, A-557-823, A-549-843, A-552-832]

Polyester Textured Yarn From Indonesia, Malaysia, Thailand, and the Socialist Republic of Vietnam: Postponement of Preliminary Determinations in the Less-Than-Fair-Value Investigations

AGENCY: Enforcement and Compliance, International Trade Administration, Department of Commerce.

DATES: Applicable April 2, 2021.

FOR FURTHER INFORMATION CONTACT: Peter Shaw at (202) 482-0697 (Indonesia); Daniel Alexander at (202) 482-2000 (Malaysia); Stephanie Berger at (202) 482-2483 (Thailand); Yang Chun at (202) 482-5760 (the Socialist Republic of Vietnam (Vietnam)), AD/CVD Operations, Enforcement and Compliance, International Trade Administration, U.S. Department of Commerce, 1401 Constitution Avenue NW, Washington, DC 20230.

SUPPLEMENTARY INFORMATION:

Background

On November 17, 2020, the Department of Commerce (Commerce) initiated less-than-fair-value (LTFV) investigations of imports of polyester textured yarn from Indonesia, Malaysia, Thailand, and Vietnam.¹ Currently, the preliminary determinations are due no later than April 6, 2021.

¹ See Polyester Textured Yarn from Indonesia, Malaysia, Thailand, and the Socialist Republic of Vietnam: Initiation of Less-Than-Fair-Value Investigations, 85 FR 74680 (November 23, 2020).

Postponement of Preliminary Determinations

Section 733(b)(1)(A) of the Tariff Act of 1930, as amended (the Act), requires Commerce to issue the preliminary determination in an LTFV investigation within 140 days after the date on which Commerce initiated the investigation. However, section 733(c)(1)(A) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are Unifi Manufacturing, Inc. and Nan Ya Plastics Corporation, America.

On March 9, 2021, the petitioners submitted a timely request that Commerce postpone the preliminary determinations in these LTFV investigations.³ The petitioners stated that it requests postponement due to the lack of time to collect, analyze, and follow up on questionnaire responses from the mandatory respondents in each investigation. The petitioners believe that additional time will allow Commerce to consider the issues raised in each case, review initial and supplemental data submitted by the respondents, and request additional information if necessary.⁴

³ See Petitioners' Letter, “Polyester Textured Yarn from Indonesia, Malaysia, Thailand, and the Socialist Republic of Vietnam—Petitioners' Request to Postpone the Preliminary Determinations,” dated March 9, 2021.

⁴ Id.

For the reason stated above, and because there are no compelling reasons to deny the request, Commerce, in accordance with section 733(c)(1)(A) of the Act, is postponing the deadline for the preliminary determinations by 50 days (i.e., 190 days after the date on which these investigations were initiated). As a result, Commerce will issue its preliminary determinations no later than May 26, 2021. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: March 12, 2021.
Christian Marsh,
Acting Assistant Secretary for Enforcement and Compliance.

[FR Doc. 2021-06843 Filed 4-1-21; 8:45 am]

BILLING CODE 3510-DS-P